Title 3—

The President

Order of July 8, 2025

Regarding the Acquisition of Jupiter Systems, LLC by Suirui International Co., Limited

By the authority vested in me as President by the Constitution and the laws of the United States of America, including section 721 of the Defense Production Act of 1950, as amended (section 721), 50 U.S.C. 4565, it is hereby ordered:

Section 1. Findings. (a) There is credible evidence that leads me to believe that (1) Suirui Group Co., Ltd., a company organized under the laws of China (Suirui), and (2) Suirui International Co., Limited, a company organized under the laws of Hong Kong and a majority-owned subsidiary of Suirui (Suirui International, and together with Suirui, the Purchasers), through the acquisition by Suirui International of all of the interests in Jupiter Systems, LLC, a Delaware limited liability company (subsequently converted to a Delaware corporation, Jupiter Systems, Inc.)(Jupiter), including Jupiter's subsidiaries Jupiter Systems China (Hong Kong) LTD, a company organized under the laws of Hong Kong (Jupiter HK), and Jie Xian Tong Computer Systems (Shenzhen) Co., Ltd., a company organized under the laws of China (Jupiter Shenzhen, and together with Jupiter HK, the Jupiter Asia Companies), which acquisition completed on February 28, 2020 (such acquisition, the Transaction), might take action that threatens to impair the national security of the United States; and

(b) Provisions of law, other than section 721 and the International Emergency Economic Powers Act (50 U.S.C. 1701 et seq.), do not, in my judgment, provide adequate and appropriate authority for me to protect the national security in this matter.

Sec. 2. Actions Ordered and Authorized. On the basis of the findings set forth in section 1 of this order, considering the factors described in subsection (f) of section 721, as appropriate, and pursuant to my authority under applicable law, including section 721, I hereby order that:

(a) The Transaction is hereby prohibited, and ownership by the Purchasers of any interest in Jupiter or its assets (other than those assets identified as excepted in subsection (b)(i) of this section), whether effected directly or indirectly through the Purchasers, or through the Purchasers' partners, subsidiaries, affiliates, or foreign person shareholders (collectively, including the Jupiter Asia Companies but excluding Jupiter, Affiliates), is also prohibited.

(b) To effectuate this order, not later than 120 calendar days after the date of this order, unless such date is extended by the Committee on Foreign Investment in the United States (CFIUS) acting through the agencies designated by its Staff Chairperson, subject to any conditions on the following actions or on granting an extension as CFIUS determines are necessary and appropriate to protect the national security of the United States:

(i) the Purchasers shall, and shall ensure that their Affiliates, divest all interests and rights in:

(A) Jupiter; and

(B) Jupiter's tangible or intangible assets or property, wherever located, including its intellectual property, non-public source code associated with Jupiter products, and customer contracts, except those assets and operations of the Jupiter Asia Companies acquired or created after the completion of the Transaction as verified to the satisfaction of CFIUS (other than any such assets transferred in violation of subsection (d) of this section), or as otherwise permitted by CFIUS;

(ii) the Purchasers and Jupiter shall ensure that Jupiter holds no interests or rights in any assets or operations of the Jupiter Asia Companies acquired or created after the completion of the Transaction and prior to Jupiter's receipt of the written communication from CFIUS referenced in subsection (c) of this section, unless otherwise approved by CFIUS.

(c) Immediately from the date of this order until such time as the divestment set forth in subsection (b) of this section (the Divestment) has been completed and verified to the satisfaction of CFIUS and CFIUS has communicated in writing to the Purchasers and Jupiter that the Divestment is complete, the Purchasers shall, and shall ensure that their personnel, Affiliates, and Affiliates' personnel, refrain from accessing Jupiter's non-public source code, non-public technical information, information technology systems, products, parts and components, books and records, or facilities in the United States, unless otherwise approved by CFIUS. Not later than 7 calendar days after the date of this order, unless such date is extended by CFIUS, the Purchasers and Jupiter shall put in place and maintain any measures or controls deemed necessary by CFIUS to ensure that the access prohibited under this subsection does not occur until such time as the Divestment has been completed and verified to the satisfaction of CFIUS.

(d) Until the Divestment has been completed and verified to the satisfaction of CFIUS and CFIUS has communicated in writing to the Purchasers and Jupiter that the Divestment is complete, unless otherwise approved by CFIUS, the Purchasers and Jupiter shall not, and shall ensure that their Affiliates do not, dissolve, reorganize, or transfer ownership of Jupiter, or otherwise change its or their legal structure or relocate, transfer or sell any physical, intangible, or financial assets in a manner that would materially impede or prevent the Purchasers, Jupiter, or their Affiliates from complying with this order as determined by CFIUS, including the transfer of any tangible or intangible assets of Jupiter that are located in the United States as of the date of this order outside of the United States or to the Jupiter Asia Companies.

(e) Immediately upon Divestment:

(i) The Purchasers and Jupiter shall certify in writing to CFIUS that all steps necessary to fully and permanently effectuate the requirements of subsections (a) and (b) of this section, including any conditions imposed by CFIUS pursuant to subsection (b) of this section, have been completed in accordance with this order; and

(ii) The Purchasers shall certify in writing to CFIUS that as part of the Divestment the Purchasers and their Affiliates have destroyed or transferred all intellectual property or non-public source code associated with Jupiter products in their possession or control, including copies thereof, that the Purchasers and their Affiliates are required to divest pursuant to subsection (b)(i) of this section. CFIUS is authorized to require auditing of the Purchasers, Jupiter, and their Affiliates, at no expense to CFIUS, on terms it deems appropriate in order to ensure that such destruction or transfer of intellectual property or non-public source code is complete.

(f) The Purchasers shall not, and shall ensure that their Affiliates do not, complete a sale or transfer of the interests and rights referenced in subsection (b)(i) of this section to any third party:

(i) until the Purchasers notify CFIUS in writing of the intended buyer or transferee; and

(ii) unless 30 calendar days have passed from the notification in subsection (f)(i) of this section and CFIUS has not issued an objection to the Purchasers. Among the factors CFIUS may consider in reviewing the proposed sale or transfer are whether the buyer or transferee is a United States citizen or is owned by United States citizens; has or has had a direct or indirect contractual, financial, familial, employment, or other close and continuous relationship with the Purchasers or their Affiliates, or officers or employees of the Purchasers or their Affiliates; and can demonstrate a willingness and ability to support compliance with this order and any conditions imposed by CFIUS. In addition, CFIUS may consider whether the proposed sale or transfer would threaten to impair the national security of the United States or undermine the purpose of this order, and whether the sale effectuates, to CFIUS's satisfaction and in its discretion, the Divestment.

(g) From the date of this order until the Purchasers and Jupiter provide a certification of the Divestment to CFIUS pursuant to subsection (e) of this section, the Purchasers and Jupiter shall certify to CFIUS on a weekly basis that they and their Affiliates are in compliance with this order and any conditions imposed by CFIUS and include a description of efforts to effectuate the Divestment and a timeline for projected completion of remaining actions.

(h) Any transaction or other instrument entered into or method employed for the purpose of, or with the effect of, evading or circumventing this order is prohibited.

(i) Without limitation on the exercise of authority by any agency under other provisions of law, CFIUS is authorized to implement measures it deems necessary and appropriate to verify and enforce compliance with this order and any conditions imposed by CFIUS. For purposes of verifying and enforcing compliance with this order and any conditions imposed by CFIUS, Purchasers and Jupiter shall permit employees of the United States Government as designated by CFIUS access, on reasonable notice to the Purchasers and Jupiter, to all premises and facilities of the Purchasers, Jupiter, and their Affiliates located in the United States:

(i) to inspect and copy any books, ledgers, accounts, correspondence, memoranda, and other records and documents in the possession or under the control of the Purchasers, Jupiter, or their Affiliates that concern any matter relating to this order;

(ii) to inspect or audit any information systems, networks, hardware, software, data, communications, or property in the possession or under the control of the Purchasers, Jupiter, or their Affiliates that concern any matter relating to this order; and

(iii) to interview officers, employees, or agents of the Purchasers or Jupiter, or their Affiliates, concerning any matter relating to this order.

(j) CFIUS shall conclude its verification procedures pursuant to subsection (i) of this section within 90 calendar days after the certification of the Divestment is provided to CFIUS pursuant to subsection (e) of this section.

(k) Without limitation on the exercise of authority by any agency under other provisions of law, and until such time as the Divestment is completed and verified to the satisfaction of CFIUS, CFIUS is further authorized to impose conditions or implement measures in connection with this order, the Divestment, and the Transaction as it deems necessary and appropriate to mitigate risk to the national security of the United States arising from the Transaction, including measures available to it under section 721 and its implementing regulations, which include the remedies available for violations of any order, agreement, or condition entered into or imposed under section 721.

(l) If any provision of this order, or the application of any provision to any person or circumstances, is held by a court of competent jurisdiction to be invalid, the remainder of this order and the application of its other provisions to any other persons or circumstances shall not be affected thereby. If any provision of this order, or the application of any provision to any person or circumstances, is held by a court of competent jurisdiction to be invalid because of the lack of certain procedural requirements, the relevant executive branch officials shall implement those procedural requirements.

(m) The Attorney General is authorized to take any steps pursuant to section 721(d)(3) necessary to enforce this order.

Sec. 3. Reservation. I hereby reserve my authority to issue further orders with respect to the Transaction or Purchasers as shall in my judgment be necessary to protect the national security of the United States.

Sec. 4. Publication and Transmittal. (a) This order shall be published in the Federal Register.

(b) I hereby direct the Secretary of the Treasury to transmit a copy of this order to the appropriate parties named in section 1 of this order.

(c) The costs for publication of this order shall be borne by the Department of the Treasury.

THE WHITE HOUSE,

July 8, 2025.

[FR Doc. 2025-13123

Filed 7-10-25; 11:15 am]

BILLING CODE 4810-25-P